DEPARTMENT OF ENERGY

Federal Energy Regulatory Commission

[Project No. 7918-003]

Robert R. Conner; Notice of Availability of Draft Environmental Assessment

April 12, 2000.

In accordance with the National Environmental Policy Act of 1969 and the Federal Energy Regulatory Commission's (Commission's) regulations, the Office of Energy Projects has reviewed the application dated August 6, 1999, requesting the Commission's authorization to surrender the exemption from licensing for the existing Walker Mill Hydroelectric Project, located on the West Prong of the Little Pigeon River in Sevier County, Tennessee, and has prepared a Draft Environmental Assessment (Draft EA) for the proposed and alternative actions.

Copies of the Draft EA can be viewed at the Commission's Public Reference Room, Room 2A 888 First Street, NE, Washington, DC 20426, or by calling (202) 208-1371. The document also may be viewed on the Web at www.ferc.fed.us/online/rims.htm. Call (202) 208-2222 for assistance.

Any comments on the Draft EA should be filed within 30 days from the date of this notice and should be addressed to Dave Boergers, Secretary, Federal Energy Regulatory Commission, 888 First Street, NE, Washington, DC 20426. Please affix “Walker Mill Surrender of Exemption from Licensing, Project No. 7918-003” to the first page of your comments.

For further information, please contact Jim Haimes, staff environmental protection specialist, at (202) 219-2780 or at his E-mail address, james.haimes@ferc.fed.us.

Linwood A. Watson, Jr.,
Acting Secretary.

[FR Doc. 00-9594 Filed 4-17-00; 8:45 am]

BILLING CODE 6717-01-M